DEPARTMENT OF ENERGY

Federal Energy Regulatory Commission

Combined Notice of Filings #1

Take notice that the Commission received the following electric rate filings:

Docket Numbers: ER10-1325-003; ER12-1946-003; ER10-2566-005; ER11-2080-003; ER10-1333-003; ER13-2387-001; ER12-1958-003; ER13-2322-001; ER10-1335-003.

Applicants: CinCap V LLC, Duke Energy Beckjord, LLC, Duke Energy Carolinas, LLC, Duke Energy Commercial Asset Management, Inc., Duke Energy Commercial Enterprises, Inc., Duke Energy Florida, Inc., Duke Energy Piketon, LLC, Duke Energy Progress, Inc., Duke Energy Retail Sales, LLC.

Description: Notice of Non-Material Change in Status of Duke Southeast MBR Sellers.

Filed Date: 7/30/14.

Accession Number: 20140730-5154.

Comments Due: 5 p.m. ET 8/20/14.

Docket Numbers: ER10-3124-003; ER10-3129-003; ER10-3130-003; ER10-3132-003; ER10-3134-003; ER10-3137-003.

Applicants: Noble Altona Windpark, LLC, Noble Bliss Windpark, LLC, Noble Chateaugay Windpark, LLC, Noble Clinton Windpark I, LLC, Noble Ellenburg Windpark, LLC, Noble Wethersfield Windpark, LLC.

Description: Amendment to June 23, 2014 Triennial Market Power Analysis of Noble Altona Windpark, LLC, et al.

Filed Date: 7/31/14.

Accession Number: 20140731-5054.

Comments Due: 5 p.m. ET 8/21/14.

Docket Numbers: ER12-678-005.

Applicants: Midcontinent Independent System Operator, Inc.

Description: 2014-07-30 VLR Compliance Filing to be effective 9/1/2012.

Filed Date: 7/30/14.

Accession Number: 20140730-5140.

Comments Due: 5 p.m. ET 8/20/14.

Docket Numbers: ER14-2538-000.

Applicants: Duke Energy Progress, Inc.

Description: NCEMPA NITSA Revisions RS 268 to be effective 7/1/2014.

Filed Date: 7/30/14.

Accession Number: 20140730-5136.

Comments Due: 5 p.m. ET 8/20/14.

Docket Numbers: ER14-2539-000.

Applicants: Idaho Power Company.

Description: OATT Order No. 789 Compliance Filing to be effective 10/1/2014.

Filed Date: 7/31/14.

Accession Number: 20140731-5001.

Comments Due: 5 p.m. ET 8/21/14.

Docket Numbers: ER14-2540-000.

Applicants: Pacific Gas and Electric Company.

Description: CCSF IA—46th Quarterly Filing of Facilities Agreements to be effective 6/30/2014.

Filed Date: 7/31/14.

Accession Number: 20140731-5002.

Comments Due: 5 p.m. ET 8/21/14.

Docket Numbers: ER14-2541-000.

Applicants: New England Power Pool Participants Committee.

Description: August 2014 Membership Filing to be effective 8/1/2014.

Filed Date: 7/31/14.

Accession Number: 20140731-5022.

Comments Due: 5 p.m. ET 8/21/14.

Docket Numbers: ER14-2542-000.

Applicants: Emera Maine.

Description: Order No. 792 Compliance Filing to be effective 9/30/2014.

Filed Date: 7/31/14.

Accession Number: 20140731-5036.

Comments Due: 5 p.m. ET 8/21/14.

Take notice that the Commission received the following electric securities filings:

Docket Numbers: ES13-46-001; ES13-49-001.

Applicants: Entergy Louisiana, LLC, Entergy Texas, Inc.

Description: Application to amend existing FPA Section 204 authority of Entergy Louisiana, LLC and Entergy Texas, Inc.

Filed Date: 7/30/14.

Accession Number: 20140730-5156.

Comments Due: 5 p.m. ET 8/20/14.

Docket Numbers: ES14-47-000.

Applicants: Wheeling Power Company.

Description: Application to issue securities pursuant to Section 204 of the Federal Power Act of Wheeling Power Company.

Filed Date: 7/31/14.

Accession Number: 20140731-5033.

Comments Due: 5 p.m. ET 8/21/14.

Take notice that the Commission received the following land acquisition reports:

Docket Numbers: LA14-2-000.

Applicants: Elizabethtown Energy, LLC, Lumberton Energy, LLC, Hatchet Ridge Wind, LLC, Spring Valley Wind LLC, Ocotillo Express LLC, Lyonsdale Biomass, LLC, ReEnergy Sterling CT Limited Partnership, Bayonne Plant Holding, L.L.C., Camden Plant Holding, L.L.C., Dartmouth Power Associates Limited Partnership, Elmwood Park Power, LLC, Newark Bay Cogeneration Partnership, L.P., Pedricktown Cogeneration Company LP, York Generation Company LLC, Sapphire Power Marketing LLC, ReEnergy Ashland LLC, ReEnergy Fort Fairfield LLC, ReEnergy Livermore Falls LLC, ReEnergy Stratton LLC, ReEnergy Black River LLC, Brandon Shores LLC, C.P. Crane LLC, H.A. Wagner LLC, Raven Power Marketing LLC, TrailStone Power, LLC, and CSOLAR IV West, LLC.

Description: Quarterly Land Acquisition Report of the Riverstone Entities.

Filed Date: 7/30/14.

Accession Number: 20140730-5151.

Comments Due: 5 p.m. ET 8/20/14.

Docket Numbers: LA14-2-000.

Applicant: Alabama Electric Marketing, LLC, Astoria Generating Company, L.P., Big Sandy Peaker Plant, LLC, California Electric Marketing, LLC, Crete Energy Venture, LLC, CSOLAR IV South, LLC, CSOLAR IV West, LLC, High Desert Power Project, LLC, Kiowa Power Partners, LLC, Lincoln Generating Facility,LLC, New Covert Generating Company, LLC, New Mexico Electric Marketing, LLC, Rolling Hills Generating, L.L.C., Tenaska Alabama Partners, L.P., Tenaska Alabama II Partners, L.P., Tenaska Frontier Partners, Ltd., Tenaska Gateway Partners, Ltd., Tenaska Georgia Partners, L.P., Tenaska Power Management, LLC, Tenaska Power Services Co., Tenaska Virginia Partners, L.P., Texas Electric Marketing, LLC, TPF Generation Holdings, LLC, and Wolf Hills Energy, LLC.

Description: Quarterly Land Acquisition Report of the Tenaska MBR Sellers.

Filed Date: 7/30/14.

Accession Number: 20140730-5152.

Comments Due: 5 p.m. ET 8/20/14.

Docket Numbers: LA14-2-000.

Applicants: E.ON Global Commodities North America LLC, EC&R O&M, LLC, Munnsville Wind Farm, LLC, Pioneer Trail Wind Farm, LLC, Settlers Trail Wind Farm, LLC, Stony Creek Wind Farm, LLC and Wildcat Wind Farm I, LLC.

Description: Quarterly Land Acquisition Report of the E.ON CRNA Sellers.

Filed Date: 7/31/14.

Accession Number: 20140731-5050.

Comments Due: 5 p.m. ET 8/21/14.

The filings are accessible in the Commission's eLibrary system by clicking on the links or querying the docket number.

Any person desiring to intervene or protest in any of the above proceedings must file in accordance with Rules 211 and 214 of the Commission's Regulations (18 CFR385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 31, 2014.
Nathaniel J. Davis, Sr.,
Deputy Secretary.

[FR Doc. 2014-18693 Filed 8-6-14; 8:45 am]

BILLING CODE 6717-01-P